DEPARTMENT OF TRANSPORTATION

Coast Guard

33 CFR Part 117

[CGD05-02-108]

RIN 2115-AE47

Drawbridge Operation Regulations; Atlantic Intracoastal Waterway, South Branch of the Elizabeth River to the Albemarle and Chesapeake Canal, Chesapeake, VA

AGENCY: Coast Guard, DOT.

ACTION: Notice of proposed rulemaking.

SUMMARY: The Coast Guard is proposing to change the operating regulations that govern the operation of the Jordan (S337) bridge, the Gilmerton (US 13/460) bridge, and the Dominion Boulevard (US 17) bridge which all span the Southern Branch of the Elizabeth River, and the Centerville Turnpike (SR170) bridge across the Albemarle and Chesapeake Canal. We propose to extend the morning and evening rush hour closure periods between one hour and one-half hour for the Jordan and Gilmerton bridges and to add rush hour scheduled openings for the Gilmerton and Centerville Turnpike bridges. These regulations are necessary to relieve increased vehicular traffic congestion during weekday rush hours; the changes would reduce traffic delays while still providing for the reasonable needs of navigation.

DATES: Comments and related material must reach the Coast Guard on or before April 14, 2003.

ADDRESSES: You may mail comments and related material to Commander (Aowb), Fifth Coast Guard District, Federal Building, 4th Floor, 431 Crawford Street, Portsmouth, Virginia 23704-5004, or they may be hand delivered to the same address between 8 a.m. and 4 p.m., Monday through Friday, except Federal Holidays. The telephone number is (757) 398-6222. The Commander (Aowb), Fifth Coast Guard District maintains the public docket for this rulemaking. Comments and material received from the public, as well as documents indicated in this preamble as being available in the docket, will become part of this docket and will be available for inspection or copying at the above address.

FOR FURTHER INFORMATION CONTACT: Ann B. Deaton, Bridge Administrator, Fifth Coast Guard District, at (757) 398-6222.

SUPPLEMENTARY INFORMATION:

Request for Comments

We encourage you to participate in this rulemaking by submitting comments and related material. If you do so, please include your name and address, identify the docket number for this rulemaking (CGD05-02-108), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Commander, Fifth Coast Guard District at the address under ADDRESSES explaining why one would be beneficial. If we determine that one would aid this rulemaking, we will hold one at a time and place announced by a later notice in the Federal Register.

Background and Purpose

The Virginia Cut of the Atlantic Intracoastal Waterway (AICW) extends approximately 28 statute miles from the Southern Branch of the Elizabeth River to the North Landing River. The AICW is used by recreational, public, and commercial vessels. General regulations governing the operation of bridges are set out in 33 CFR 117.1 through 117.49. Specific drawbridge regulations, which supplement the general regulations for certain AICW bridges, are set out in 33 CFR 117.997.

The City of Chesapeake has requested a change to the existing regulations for the Jordan, Gilmerton, Dominion Boulevard and Centerville Turnpike bridges crossing the AICW, in order to balance the needs of mariners and motorists transiting in and around Chesapeake. Bridge openings at peak traffic hours during the weekdays cause considerable vehicle traffic backup. The City of Chesapeake is seeking to reduce the amount of vehicular traffic congestion during the weekday morning and evening rush hours. The City of Chesapeake is also seeking to change two of their drawbridges; Dominion Boulevard and Centerville Turnpike bridges, from opening on signal to opening on the hour and half hour between peak traffic hours. The following bridges would be affected by this proposal:

Jordan Bridge

The current regulations require the Jordan Bridge across the Southern Branch of the Elizabeth River, at AICW mile 2.8, to open on signal at any time for public vessels of the United States, vessels in distress, commercial vessels carrying liquefied flammable gas or other harmful substances, and commercial and/or public vessels assisting in any emergency situation. From 6:30 a.m. to 7:30 a.m. and from 3:30 p.m. to 5 p.m., Monday through Friday, except Federal holidays, the bridge need not open during rush hour closure periods for the passage of certain recreational craft or commercial vessels and it need not open during rush hour restrictions for commercial cargo vessels, including tugs and tows, unless 2 hours advance notice has been given to the Jordan Bridge Office at (757) 545-4695. At all other times, the draw opens on signal.

The City of Chesapeake, through a Resolution submitted by the Chesapeake City Council, has requested changes in the regulations governing the Jordan Bridge. They requested a change in the hours the draw would open during the morning and evening rush hours to 6:30 a.m. to 8:30 a.m. and to 3:30 p.m. to 5:30 p.m., Monday through Friday, except Federal holidays. This change would extend the morning closure period by one hour and the evening closure period by a half hour. The provision allowing vessels in distress, public vessels of the United States, and commercial and public vessels assisting in any emergency passage through the bridge at any time would be removed since this provision is addressed in 33 CFR 117.31. Vessels carrying liquefied flammable gas and other hazardous materials would still have unimpeded access through the bridge at any time.

The proposal to continue to allow vessels carrying liquefied flammable gas or other hazardous materials unimpeded access through the bridge at any time was made based on the hazards involved in shipping liquefied flammable gas and to maintain safety along the Southern Branch of the Elizabeth River. The Coast Guard Marine Safety Office, Hampton Roads, issues safety zones each time liquefied flammable gas is transported through the Port of Hampton Roads.

Since tugs and tugs with tows have no place to tie up in the proximity of the bridge to wait for a bridge opening, it is proposed to continue to include them in the 2-hour advance notice requirement as well as commercial cargo vessels requiring high tide to transit. During the spring and fall months, the flow of recreational vessels is constant due to vessel owners that are referred to as “snow birds”. Owners of these recreational vessels are either transiting north to south towards a warmer climate in the fall or south to north towards a cooler climate in the spring and this can result in excessive bridge openings during rush hour due to their numbers. The proposal to continue to restrict recreational vessels during the morning and evening rush hour is based on the need to limit the openings of the draw during these hours to aid in relieving highway congestion currently being experienced at this bridge.

The request for the change to the regulations is based on increasing area highway congestion, the lengthy delays to cross bridges due to area growth that is resulting in more motorists on the highways. The area's bridges and bridge-tunnel complexes are experiencing increasing congestion which can be partially remedied by extending the bridge closure periods during peak traffic hours to help keep the main highway arteries free flowing. The Jordan Bridge is a vital link between the cities of Portsmouth and Chesapeake used widely by motorists that work at the Norfolk Naval Shipyard, other Federal agencies located within the shipyard as well as within Portsmouth, and other industries and businesses in Portsmouth and Chesapeake.

The City's request to extend the morning and evening hour closure periods Monday through Friday, except Federal holidays, is based on the need to reduce traffic congestion. The current schedule has been successful; however, it needs to be expanded since the last time the regulations governing the operation of the Jordan Bridge were updated was in the summer of 1990. A Final Rule (58 FR 16122) was published March 25, 1993. Since then the current closure periods have not been sufficient to accommodate the increase in vehicular traffic crossing this bridge.

Weekday vehicular traffic submitted by the City of Chesapeake revealed that approximately 825 vehicles cross over the bridge during the morning rush hour and approximately 2500 cross over the bridge during the evening rush hour.

The Coast Guard studied the City of Chesapeake's drawlogs for the Jordan Bridge for 2001, Monday through Friday, except Federal holidays, between the hours of 7:30 a.m. to 8:30 a.m. and 5 p.m. to 5:30 p.m. to determine how often the draw opened for the passage of vessels. The logs revealed that during the requested extended rush hour closure periods, the draw opened a total of 637 times for 2001. April had the highest number of openings; 92 times during the morning and 72 times during the evening. Recreational vessels requesting opening during the requested hours of extension totaled 30 for May 2001, 365 for October 2001, and 167 for November. Based on the frequency of bridge openings and the increase in vehicular traffic, the City of Chesapeake's request to extend the morning and evening rush hours appears reasonable.

Gilmerton Bridge

Current regulations require the Gilmerton Bridge across the Southern Branch of the Elizabeth River, AICW mile 5.8, to open on signal at any time for public vessels of the United States, vessels in distress, commercial vessels carrying liquefied flammable gas or other harmful substances, and commercial and/or public vessels assisting in any emergency situation. From 6:30 a.m. to 8 a.m. and from 3:30 p.m. to 5 p.m., Monday through Friday, except Federal holidays the bridge need not open during rush hour closure periods for the passage of certain recreational craft or commercial vessels and need not open during rush hour closure periods for commercial cargo vessels, including tugs, and tugs with tows, unless 2 hours advance notice has been given to the Gilmerton Bridge at (757) 545-1512. The draw opens on signal at all other times.

The City of Chesapeake, through a Resolution submitted by the Chesapeake City Council, has requested changes in the regulations governing the Gilmerton Bridge. They requested a change in the hours the draw would open during the morning and evening rush hours to 6:30 a.m. to 8:30 a.m. and to 3:30 p.m. to 5:30 p.m. Monday through Friday, except Federal holidays. This change would extend the morning closure period by a half hour and extend the evening closure period by a half hour. The provision allowing vessels in distress, public vessels of the United States, and/or commercial and public vessels assisting in any emergency passage through the bridge at any time would be removed since this provision is addressed in 33 CFR 117.31. Vessels carrying liquefied flammable gas and other hazardous materials would still be given access through the bridge at any time.

The proposal to continue to provide vessels carrying liquefied flammable gas or hazardous materials unimpeded access through the bridge at any time with no restrictions was made based on the hazards involved in shipping liquefied flammable gas and to maintain safety along the Southern Branch of the Elizabeth River. The Hampton Roads Marine Safety Office issues safety zones each time a liquefied flammable gas carrier is transiting the Port of Hampton Roads. Also, since tugs, and tugs with tows have no place to tie up in the proximity of the bridge to wait for a bridge opening, it is proposed to continue to include them in the 2-hour advance notice requirement provision, as well as commercial cargo vessels requiring high tide to transit. During the spring and fall months, the flow of recreational vessels is constant due to vessel owners that are referred to as “snowbirds”. Owners of these recreational vessels are either transiting north to south towards a warmer climate in the fall or south to north towards a cooler climate in the spring and this can result in excessive bridge openings during rush hour closure periods due to their numbers. The proposal to expand the closure periods for recreational vessels during the morning and evening rush hour is based on the need to limit the openings of the draw during these hours to aid in relieving highway congestion currently being experienced at this bridge.

The request for the change to the regulations is based on increasing area highway congestion and lengthy delays across bridges due to area growth that is resulting in more motorists on the highways. The Gilmerton Bridge is another vital link between the cities of Portsmouth and Chesapeake and is used widely by motorists that work at the Norfolk Naval Shipyard, other Federal agencies located within the shipyard as well as within Portsmouth, and other industries and businesses in Portsmouth and Chesapeake.

The City's request to extend the morning and evening closure periods Monday through Friday, except Federal holidays, is based on the need to reduce traffic congestion. November 1994 was the last time the regulations governing the operation of this drawbridge were updated. A Final Rule (60 FR 37365) was published July 20, 1995. Since 1994, area growth has continued and the current closure periods are not sufficient to accommodate the increase in vehicular traffic crossing this bridge. Weekday vehicular traffic counts submitted by the City of Chesapeake revealed that during the morning rush hour, approximately 2200 vehicles cross the Gilmerton Bridge. During the evening rush hours, approximately 3000 vehicles cross over this bridge.

The Coast Guard studied the City of Chesapeake's drawlogs for the Gilmerton Bridge for the year of 2001, Monday through Friday, except Federal holidays, between the hours of 8 a.m. to 8:30 a.m. to 5 p.m. to 5:30 p.m. to determine how often the draw opened for the passage of vessels. The logs revealed that during the requested half-hour extension of the morning and evening rush hours, the draw opened a total of 223 times in the morning and 235 times in the evening. The highest number of openings occurred during the spring months and the fall months. The lowest openings occurred in February when vessel traffic is at its lowest due to the cold weather. Based on the number of vehicles that cross this bridge during the morning and evening rush hours and the frequency of bridge openings during the same time, the City of Chesapeake's request to extend the morning and evening rush hours by a half-hour appears reasonable.

Dominion Boulevard

Current regulations require the Dominion Boulevard Bridge across the Southern Branch of the Elizabeth River, AICW mile 8.8, to open on signal except from 7 a.m. to 9 a.m. and from 4 p.m. to 6 p.m., Monday through Friday, except Federal holidays, the drawbridge need not open for the passage of recreational vessels. Vessels in an emergency involving danger to life or property shall be passed at any time.

The City of Chesapeake, through a Resolution submitted by Chesapeake City Council, has requested changes in the regulations governing the operation of the Dominion Boulevard Bridge also known as the Steel Bridge. This request would change the rush hour restrictions to 6:30 a.m. to 8:30 a.m. and to 5 p.m. to 7 p.m., Monday through Friday, except Federal holidays. This change would extend the morning rush hour by a half hour at the beginning and reduce it by one half hour at the end. The evening rush hour would begin an hour later and last an hour later. A new provision would be added to change on demand openings to opening on signal on the hour and half-hour, between 8:30 a.m. to 5 p.m., Monday through Friday, except Federal holidays. The provision to allow vessels in an emergency involving danger to life or property would be removed since this provision is addressed in 33 CFR 117.31. The City of Chesapeake also requested that new provisions be included allowing vessels carrying liquefied flammable gas or other hazardous materials access through the bridge at any time, tugs and tugs with tows and commercial cargo vessels access through the bridge with a 2-hour advance notification, and delaying the draw for 10 minutes for an approaching vessel or vessels waiting to pass through the drawspan. Recreational vessels would continue to be subject to the closure periods during the morning and evening rush hours. At all other times, the draw would open on signal.

The proposal to allow vessels carrying liquefied flammable gas or hazardous materials unimpeded access through the bridge at any time with no restrictions was made based on the hazards involved in shipping liquefied flammable gas and to maintain safety along the Southern Branch of the Elizabeth River. The Coast Guard Marine Safety Office, Hampton Roads, issues safety zones each time a liquefied flammable gas carrier is transiting the Port of Hampton Roads. Also, since tugs and tugs with tows have no place to tie up in the proximity of the bridge to wait for a bridge opening, it is proposed to continue to include them in the 2-hour advance notice requirement provision, as well as commercial cargo vessels requiring high tide to transit. During the spring and fall months, the flow of recreational vessels is constant due to vessel owners referred to as “snowbirds”. Owners of these recreational vessels are either transiting north to south towards a warmer climate in the fall or south to north towards a cooler climate in the spring and this can result in excessive bridge openings during rush hour restrictions due to their numbers. The proposal to continue to restrict recreational vessels during the morning and evening rush hour is based on the need to limit the openings of the draw during these hours to aid in relieving highway congestion currently being experienced at this bridge.

The request for the change to the regulations is based on increasing area highway congestion and lengthy delays at the Dominion Boulevard Bridge. The Dominion Boulevard Bridge is one of the vital links to those who live and work in the Great Bridge area of Chesapeake. Bridge openings during rush hours severely disrupt vehicular traffic. The need to extend bridge closure periods during peak traffic hours far exceeds the need to maintain the Dominion Boulevard Bridge at its present regulated schedule.

The City's request to extend the morning and evening closure periods Monday through Friday, except Federal holidays, is based on the need to reduce traffic congestion. The current schedule was updated December 26, 1995 in a Final Rule (61 FR 1714) and worked for a while, but as a result of urban development, Dominion Boulevard has become a heavily traveled thoroughfare and the current closure periods are no longer sufficient to accommodate the increase in vehicles crossing this bridge during rush hour. The City of Chesapeake studied weekday vehicular traffic counts during the morning and evening rush hours. The average vehicle traffic count during a weekday morning rush hour for this bridge is approximately 2500 and for the evening rush hour, the vehicle count is approximately 2000.

The Coast Guard studied the City of Chesapeake's drawlogs for the Dominion Boulevard Bridge for the year 2001, Monday through Friday, except Federal holidays between the hours of 6:30 a.m. to 7 a.m., 8:30 a.m. to 9 a.m., 4 p.m. to 5 p.m. and 6 p.m. to 7 p.m. to determine how often the draw opened for the passage of vessels. The logs revealed that during the requested morning and evening rush hour extensions, the draw opened a total of 252 times during the morning and 350 times during the evening. The highest number of openings occurred May through November. The highest number of recreational vessels passing through this bridge during the extended hours of closure periods requested by the City was 275 in May 2001 and 245 in October of 2001. The lowest number of openings occurred in February, March and December due to the cold weather when boating is at its lowest. Based on the number of vehicles that cross this bridge during the morning and evening rush hours and the frequency of bridge openings during the same time, the City of Chesapeake's request to extend the morning and evening rush hours appears reasonable.

Centerville Turnpike

Current regulations that govern the operation of the Centerville Turnpike Bridge across the Albemarle and Chesapeake Canal, AICW mile 15.2, require the bridge to open on signal except from 7 a.m. to 7 p.m. the draw need only be opened on the hour and half-hour, seven days a week year-round, for the passage of recreational vessels. Public vessels of the United States, commercial vessels and vessels in an emergency condition which present danger to life or property shall be passed at any time.

The City of Chesapeake, through a Resolution submitted by the Chesapeake City Council, has requested changes in the regulations governing the Centerville Turnpike Bridge. Provisions would be added to close the drawspan between the hours of 6:30 a.m. to 8:30 a.m. and from 4 p.m. to 6 p.m., Monday through Friday, except Federal holidays, allow commercial cargo vessels, tugs, and tugs with tows access through the bridge at any time provided a 2-hour advance notification is made, and would subject certain recreational vessels and commercial vessels to the morning and evening rush hour closure periods. The City also requested that the draw open only on the hour and half hour between 8:30 a.m. and 4 p.m. seven days a week. Since the rush hour closure periods are only for the weekday, the hour and half hour openings would apply between 8:30 a.m. and 4 p.m., Monday through Friday, except Federal holidays and not seven days a week. The rest of the time the draw would open on signal. The Coast Guard is adding to the City's request that the draw shall open on signal for the passage of vessels carrying liquefied flammable gas or other hazardous materials. Coast Guard Marine Safety Office, Hampton Roads, confirmed that there is a commercial facility located past the Centerville Turnpike bridge that receives deliveries of fuel that is transported by barges.

The proposal to allow vessels carrying liquefied flammable gas or hazardous materials unimpeded access through the bridge at any time with no restrictions was made based on the hazards involved in shipping liquefied flammable gas and to maintain safety along the Albemarle and Chesapeake Canal. The Coast Guard Marine Safety Office, Hampton Roads, issues safety zones each time a liquefied flammable gas carrier is transiting the Port of Hampton Roads. Also, since tugs, and tugs with tows have no place to tie up in the vicinity of the bridge to wait for a bridge opening, it is proposed to include them in the 2-hour advance notice requirement provision, as well as commercial cargo vessels requiring high tide to transit. During the spring and fall months, the flow of recreational vessels is constant due to vessel owners referred to as “snowbirds”. Owners of these recreational vessels are either transiting north to south towards a warmer climate in the fall or south to north towards a cooler climate in the spring and this can result in excessive bridge openings during rush hour closure periods due to their numbers. The proposal to continue to restrict recreational vessels during the morning and evening rush hour is based on the need to limit the openings of the draw during these hours to aid in relieving highway congestion currently being experienced at this bridge.

The City's request to provide morning and evening closure periods for bridge openings Monday through Friday, except Federal holidays, is based on the large volume of highway traffic that occurs at this location. Centerville Turnpike is a small two-lane road that accommodates large volumes of highway traffic. The highway traffic is a result of the population growth in Chesapeake and is causing lengthy delays to motorists who use this bridge daily going to and from home to work. The current schedule was updated as a Final Rule September 30, 1991 (56 FR 49410). A Notice of Proposed Rulemaking (NPRM) was published (63 FR 26792, June 2, 1998) for the Centerville Turnpike Bridge proposing a change to the current operating schedule. The request was made by the City of Chesapeake to provide rush hour closure periods in the morning and evening, Monday through Friday including Federal holidays from April 1 to November 30. The remainder of the time, the bridge would open on signal. Comments received as a result of the NPRM were from marina owners located on the AICW. They expressed concern that the closure periods would have a negative impact on their business. The City of Chesapeake was informed of these comments and decided based on their conversations with these business owners to provide a new proposal for the Centerville Turnpike Bridge. The new proposal took the place of the NPRM and provided a comprehensive sequencing of all of the AICW bridges in Chesapeake that the City felt would minimize inconvenience to the maritime industry. The Coast Guard tested the City's new proposal by transiting the AICW in a Coast Guard 41-foot Search and Rescue vessel traveling 10 knots. The Coast Guard determined the speed of travel was the average speed the majority of boaters traveled along this waterway. It was determined after the test was completed that the City's request did not meet the reasonable needs of navigation.

Data received from the City of Chesapeake revealed highway traffic counts at the Centerville Turnpike Bridge has increased from 13,700 per day to over 16,000 per day. Weekday traffic counts submitted by the City revealed over 4500 vehicles cross over the Centerville Turnpike Bridge during the morning rush hours and over 3300 cross over this bridge during the evening rush hours.

The Coast Guard studied the City of Chesapeake's drawlogs for the Centerville Turnpike Bridge for the year of 2001, Monday through Friday, except Federal holidays, between the hours of 6:30 a.m. to 8:30 a.m. and 4:30 p.m. to 6 p.m. to determine how often the draw opened for the passage of vessels. The logs revealed that during the requested morning and evening rush hours, the draw opened a total of 395 times in the morning and 414 times in the evening. Vessel traffic through this bridge was at it's highest from April to November 2001. In May vessels totaled 255 and in October vessels totaled 305. Since this bridge currently does not have a morning or evening rush hour schedule and based on the number of vehicles crossing this bridge and the high number of openings occurring during the requested morning and evening rush hours, the City of Chesapeake's request appears reasonable.

Discussion of Proposed Rule

Jordan Bridge

The Coast Guard proposes to amend the substance of § 117.997(b) that governs the Jordan Bridge, across the Southern Branch of the Elizabeth River, AICW mile 2.8, in Chesapeake, Virginia. The proposed change to paragraph (b)(1) would require the bridge to open on signal at any time for commercial vessels carrying liquefied flammable gas or other hazardous materials. Paragraph (b)(2) would expand the closure periods during rush hour from 6:30 a.m. to 8:30 a.m. and from 3:30 p.m. to 5:30 p.m., Monday through Friday, except Federal holidays. Paragraph (b)(2)(i) would change the wording of pleasure craft to recreational vessel.

Gilmerton Bridge

The Coast Guard proposes to amend the substance of § 117.997 (d) that governs the Gilmerton Bridge, across the Southern Branch of the Elizabeth River, AICW mile 5.8, in Chesapeake, Virginia. The proposed change to paragraph (d)(1) would require the bridge to open on signal at any time for commercial vessels carrying liquefied flammable gas or other hazardous materials. Paragraph (d)(2) would expand the closure period during rush hour from 6:30 a.m. to 8:30 a.m. and from 3:30 p.m. to 5:30 p.m., Monday through Friday, except Federal holidays. Paragraph (d)(2)(i) would change the wording of pleasure craft to recreational vessel.

Dominion Boulevard Bridge

The Coast Guard proposes to amend both the form and substance of § 117.997 (f) which governs the Dominion Boulevard Bridge, across the Southern Branch of the Elizabeth River, AICW mile 8.8, in Chesapeake, Virginia. The proposed change to paragraph (f)(1) would require the bridge to open on signal at any time for commercial vessels carrying liquefied flammable gas or hazardous materials. Paragraph (f)(2) would establish closure periods for the bridge during rush hours from 6:30 a.m. to 8:30 a.m. and from 5 p.m. to 7 p.m., Monday through Friday, except Federal holidays. Paragraph (f)(2)(i) would establish that the bridge need not open for the passage of recreational or commercial vessels during those closure periods that do no qualify under paragraph (f)(2)(ii) of this section. Paragraph (f)(2)(ii) would establish that the bridge need not open for commercial cargo vessels, including tugs, and tugs with tows, unless 2 hours advance notice is given to the Dominion Boulevard Bridge at (757) 547-0521. Paragraph (f)(3) would establish scheduled opening for the bridge on the hour and half hour from 8:30 a.m. to 5 p.m., Monday through Friday, except Federal holidays. Paragraph (f)(4) would establish discretion for the drawtender to delay the opening up to 10 minutes pass the hour and half hour for the passage of approaching vessels and any other vessels that are waiting to pass. Paragraph (f)(5) would establish that the bridge would open on signal at all other times.

Centerville Turnpike Bridge

The Coast Guard proposes to amend both the form and substance of § 117.997(i) that governs the Centerville Turnpike Bridge, across the Albemarle and Chesapeake Canal, AICW mile 15.2, in Chesapeake, Virginia. Paragraph (i)(1) would require the bridge to open at any time for commercial vessels carrying liquefied flammable gas or hazardous materials. Paragraph (i)(2) would establish closure periods for rush hour from 6:30 a.m. to 8:30 a.m. and from 4 p.m. to 6 p.m., Monday through Friday, except Federal holidays. Paragraph (i)(2)(i) would establish that the bridge need not open for the passage of recreational or commercial vessels that do not qualify under (i)(2)(ii) of this section. Paragraph (i)(2)(ii) would establish that the bridge need not open for commercial cargo vessels, including tugs, and tugs with tows, unless 2 hours advance notice has been given to the Centerville Turnpike Bridge at (757) 547-3632. Paragraph (i)(3) would establish a schedule for bridge openings on the hour and half hour from 8:30 a.m. to 4 p.m., Monday through Friday, except Federal holidays. Paragraph (i)(4) would give discretion to the drawtender to delay the opening 10 minutes pass the hour/half hour for the passage of the approaching vessel and any other vessels that are waiting to pass. Paragraph (i)(5) would establish that the bridge would open on signal at all other times.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of this proposed rule to be so minimal that a full Regulatory Evaluation under paragraph 10e of the regulatory policies and procedures of DOT is unnecessary.

We reached this conclusion based on the fact that the proposed changes have only a minimal impact on maritime traffic transiting the bridges. Mariners can plan their transits in accordance with the scheduled bridge openings, to further minimize delay.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

The proposed rule would not have a significant economic impact on a substantial number of small entities because the rule only adds minimal restrictions to the movement of navigation, and mariners who plan their transits in accordance with the schedule bridge openings and minimize delay.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Ann B. Deaton, Bridge Administrator, Fifth Coast Guard District, (757) 398-6222.

Collection of Information

This proposed rule would call for no new collection of information under the Paperwork Reduction Act of 1995 (44 U.S.C. 3501-3502.).

Federalism

A rule has implications for federalism under Executive Order 12132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in section 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comment on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a State of Energy Effects under Executive Order 13211.

Environment

We have considered the environmental impact of this proposed rule and concluded that, under figure 2-1, paragraph (32)(e), of Commandant Instruction M16475.1D, this rule is categorically excluded from further environmental documentation. A “Categorical Exclusion Determination” is available in the docket where indicated under ADDRESSES.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. In § 117.997 paragraphs (b)(1), (b)(2) introductory text, (b)(2)(i), (d)(1), (d)(2) introductory text, (d)(2)(i), (f) and (i) are revised to read as follows:

§ 117.997 Atlantic Intracoastal Waterway, South Branch of the Elizabeth River to the Albemarle and Chesapeake Canal

* * * * *

(b) * * *

(1) Shall open on signal at any time for commercial vessels carrying liquefied flammable gas or other hazardous materials.

(2) From 6:30 a.m. to 8:30 a.m. and from 3:30 p.m. to 5:30 p.m., Monday through Friday, except Federal holidays:

(i) Need not open for the passage of recreational or commercial vessels that do not qualify under paragraph (b)(2)(ii) of this section.

* * * * *

(d) * * *

(1) Shall open on signal at any time for commercial vessels carrying liquefied flammable gas or other hazardous materials.

(2) From 6:30 a.m. to 8:30 a.m. and from 3:30 p.m. to 5:30 p.m., Monday through Friday, except Federal holidays:

(i) Need not open for the passage of recreational or commercial vessels that do not qualify under paragraph (d)(2)(ii) of this section.

* * * * *

(f) The draw of the Dominion Boulevard (US 17) bridge, mile 8.8, in Chesapeake:

(1) Shall open on signal at any time for commercial vessels carrying liquefied flammable gas or other hazardous materials.

(2) From 6:30 a.m. to 8:30 a.m. and from 5 p.m. to 7 p.m., Monday through Friday, except Federal holidays:

(i) Need not open for the passage of recreational or commercial vessels that do not qualify under paragraph (f)(2)(ii) of this section.

(ii) Need not open for commercial cargo vessels, including tugs, and tugs with tows, unless 2 hours advance notice has been given to the Dominion Boulevard Bridge at (757) 547-0521.

(3) From 8:30 a.m. to 5 p.m., Monday through Friday, except Federal holidays, the draw need be opened only on the hour and half hour.

(4) If any vessel is approaching the bridge and cannot reach the draw exactly on the hour or half hour, the drawtender may delay the opening up to ten minutes pass the hour or half hour for the passage of the approaching vessel and any other vessels that are waiting to pass.

(5) Shall open on signal at all other times.

* * * * *

(i) The draw of the Centerville Turnpike (SR170) bridge across the Albemarle and Chesapeake Canal, mile 15.2, at Chesapeake:

(1) Shall open on signal at any time for commercial vessels carrying liquefied flammable gas or other hazardous materials.

(2) From 6:30 a.m. to 8:30 a.m. and from 4 p.m. to 6 p.m., Monday through Friday, except Federal holidays:

(i) Need not open for the passage of recreational or commercial vessels that do not qualify under (i)(1)(ii) of this section.

(ii) Need not open for commercial cargo vessels, including tugs, and tugs with tows, unless 2 hours advance notice has been given to the Centerville Turnpike Bridge at (757) 547-3632.

(3) From 8:30 a.m. to 4 p.m., Monday through Friday, except Federal holidays, the draw need only be opened on the hour and half hour.

(4) If any vessel is approaching the bridge and cannot reach the draw exactly on the hour or half hour, the drawtender may delay the opening ten minutes pass the hour or half hour for the passage of the approaching vessel and any other vessels that are waiting to pass.

(5) Shall open on signal at all other times.

Dated: January 15, 2003.
James D. Hull,
Vice Admiral, U.S. Coast Guard, Commander, Fifth Coast Guard District.

[FR Doc. 03-3458 Filed 2-11-03; 8:45 am]

BILLING CODE 4910-15-P